DEPARTMENT OF VETERANS AFFAIRS

[OMB Control No. 2900-0055]

Agency Information Collection Activity Under OMB Review: Request for Determination of Loan Guaranty Eligibility—Unmarried Surviving Spouses

AGENCY: Loan Guaranty Service, Department of Veterans Affairs.

ACTION: Notice.

SUMMARY: The Veterans Benefits Administration, Department of Veterans Affairs (VA) is announcing an opportunity for public comment on the proposed collection of certain information by the agency. Under the Paperwork Reduction Act (PRA) of 1995, this notice announces that the Loan Guaranty Service, Department of Veterans Affairs, will submit the collection of information abstracted below to the Office of Management and Budget (OMB) for review and comment. The PRA submission describes the nature of the information collection and its expected cost and burden and it includes the actual data collection instrument.

DATES: Comments must be submitted on or before June 17, 2019.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0055” in any correspondence.

FOR FURTHER INFORMATION CONTACT: Danny S. Green, Enterprise Records Service (005R1B), Department of Veterans Affairs, 811 Vermont Avenue NW, Washington, DC 20420, (202) 421-1354 or email Danny.Green2@va.gov. Please refer to “OMB Control No. 2900-0055” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Request for Determination of Loan Guaranty Eligibility—Unmarried Surviving Spouses, VA form 26-1817.

OMB Control Number: 2900-0055.

Type of Review: Extension of a currently approved collection.

Abstract: VA Form 26-1817 is used by VA to determine whether or not an un-remarried spouse of a Veteran is eligible for the VA home loan benefit. Section 3702(c) of Title 38, U.S.C. states that any Veteran may apply to the Secretary for a Certificate of Eligibility (COE). A completed VA Form 26-1817 constitutes a formal request by an un-remarried surviving spouse for a COE. Upon receipt of VA Form 26-1817 and the required documentation by Loan Guaranty personnel, the application and supporting documents are referred to the Adjudication activity via the Administrative activity for determination of the applicant's basic eligibility. Adjudication will then notify Loan Guaranty about the basic eligibility for issuance of the COE. The information collected on the form provides the essential information necessary for VA to make a proper determination.

Affected Public: Individuals and households.

Estimated Annual Burden: 1250 hours.

Estimated Average Burden Per Respondent: 15 minutes.

Frequency of Response: One-time.

Estimated Number of Respondents: 5,000.

By direction of the Secretary.
Danny S. Green,
Interim VA Clearance Officer, Office of Quality, Performance and Risk (OQPR), Department of Veterans Affairs.

[FR Doc. 2019-07730 Filed 4-17-19; 8:45 am]

BILLING CODE 8320-01-P